DEPARTMENT OF ENERGY

Federal Energy Regulatory Commission

Notice of Document Labelling Guidance for Documents Submitted to or Filed With the Commission or Commission Staff

Take notice that, pursuant to National Archives and Record Administration procedures for appropriate handling of documents (81 FR 63323 (Sept. 14, 2016)), the Commission will follow the Information Governance Policy and Guidelines for the Protection of Sensitive Information requirements as described below. As a result, every submission or filing with the Commission or Commission staff that contains sensitive material (as described below) should be labeled controlled unclassified information (CUI). The documents described below should be labeled as follows:

Documents containing Critical Energy/Electric Infrastructure Information (CEII), see 18 CFR 388.113, should include in a top center header of each page of the document the following text: CUI//CEII.

Documents containing information that section 388.112 of the Commission's regulations, 18 CFR 388.112, recognizes as privileged, and documents containing information within the scope of protective orders and agreements in Commission proceedings, should include in a top center header of each page of the document the following text: CUI//PRIV.

Documents containing multiple information types, should reference each information type in a top center header of each page of the document in the following format: CUI//[Information Type]/[Additional Information Type], e.g., CUI//CEII/PRIV.

For information that is CEII, filers are reminded that they must clearly segregate those portions of the documents that contain CEII, and indicate how long the CEII label should apply (not to exceed five years unless redesignated by the CEII Coordinator). See Fixing America's Surface Transportation Act, Public Law 114-94, 61,003, 129 Stat. 1312, 1773-1779 (2015); see also 18 CFR 388.113(d)(1)(i-ii).

For information that is privileged or within the scope of a protective order or agreement, filers are reminded that they also need to clearly identify within the document those specific portions of the document (i.e., lines or individual words or numbers)—containing such material. See 18 CFR 388.112(b).

This notice supersedes and clarifies an earlier notice issued April 14, 2017. (See Notice of Document Labelling Guidance for Documents Submitted to or Filed with the Commission or Commission Staff, April 14, 2017)

Dated: June 14, 2018.
Kimberly D. Bose,
Secretary.

[FR Doc. 2018-13206 Filed 6-19-18; 8:45 am]

BILLING CODE 6717-01-P